DEPARTMENT OF ENERGY

Federal Energy Regulatory Commission

[Docket No. CP03-344-000]

Columbia Gas Transmission Corporation; Notice of Application

September 3, 2003.

Take notice that Columbia Gas Transmission Corporation (Columbia), filed on July 30, 2003, an abbreviated application pursuant to Sections 7(b) and 7(c) of the Natural Gas Act, as amended, to abandon its storage injection/withdrawal Well 12028 and associated well line segment SR-W12028 consisting of 0.17 mile of 3-inch and 4-inch pipeline and to construct new injection Well 12422 and appurtenances including 0.03 mile of 4-inch well line, all located in Columbia's Crawford Storage Field in Hocking County, Ohio, all as more fully set forth in its petition which is on file with the Commission and open to public inspection. This filing may be also viewed on the Commission's Web site at http://www.ferc.gov using the eLibrary (FERRIS) link. Enter the docket number excluding the last three digits in the docket number field to access the document. For assistance, please contact FERC Online Support at FERCOnlineSupport@ferc.gov or toll-free at (866) 208-3676 or for TTY, contact (202) 502-8659.

Any questions regarding this application should be directed to Fredric J. George, Esquire, Attorney for Columbia Gas Transmission Corporation, P.O. Box 1273, Charleston, West Virginia 25325-1273, at (304) 357-2359, fax (304) 357-3206.

Columbia states that Well 12028 is experiencing the flooding of salt water into the storage zone reservoir and believes that the abandonment of the well and the construction of a replacement well, Well 12422, will protect the integrity of the reservoir, as well as allow Columbia to continue to meet the deliverability and turnover requirements of the Crawford Storage Field.

There are two ways to become involved in the Commission's review of this project. First, any person wishing to obtain legal status by becoming a party to the proceedings for this project should, on or before the comment date, stated below, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of ll documents filed by other parties or issued by the Commission (except for the mailing of environmental documents issued by the Commission) and will not have the right to seek court review of the Commission's final order.

Protests, comments, and interventions may be filed electronically via the Internet in lieu of paper. See 18 CFR 385.2001(a)(1)(iii) and the instructions on the Commission's Web site under the “e-Filing” link. The Commission strongly encourages electronic filings.

Comment Date: September 24, 2003.

Magalie R. Salas,
Secretary.

[FR Doc. 03-22868 Filed 9-8-03; 8:45 am]

BILLING CODE 6717-01-P